DEPARTMENT OF THE INTERIOR

National Park Service

[NPS-WASO-NAGPRA-NPS0039530; PPWOCRADN0-PCU00RP14.R50000]

Notice of Inventory Completion: U.S. Department of Agriculture, Forest Service, Deschutes National Forest, Bend, OR

AGENCY: National Park Service, Interior.

ACTION: Notice.

SUMMARY: In accordance with the Native American Graves Protection and Repatriation Act (NAGPRA), the Deschutes National Forest has completed an inventory of human remains and associated funerary objects and has determined that there is a cultural affiliation between the human remains and associated funerary objects and Indian Tribes or Native Hawaiian organizations in this notice.

DATES: Repatriation of the human remains and associated funerary objects in this notice may occur on or after April 18, 2025.

ADDRESSES: Holly Jewkes, Forest Supervisor, Deschutes National Forest, 63095 Deschutes Market Road, Bend, OR 97701, telephone (541) 383-5512, email holly.jewkes@usda.gov.

SUPPLEMENTARY INFORMATION: This notice is published as part of the National Park Service's administrative responsibilities under NAGPRA. The determinations in this notice are the sole responsibility of the Deschutes National Forest, and additional information on the determinations in this notice, including the results of consultation, can be found in its inventory or related records. The National Park Service is not responsible for the determinations in this notice.

Abstract of Information Available

Accession records from the University of Oregon, Museum of Natural and Cultural History indicate in 1940 human remains were collected by a private individual from the Fort Rock Ranger District, Deschutes National Forest in Deschutes County, Oregon. Human remains representing one individual have been identified. No associated funerary objects are present. No additional acquisition history is available. Based on the geographic location, the cultural affiliation is likely the Burns Paiute Tribe, the Klamath Tribes, or the Confederated Tribes of Warm Springs. There is no record of hazardous substances being used on or associated with these remains.

Accession records from the University of Oregon, Museum of Natural and Cultural History indicate in the mid-1970s human remains were collected from the Deschutes National Forest in the general vicinity of Sunriver, Oregon. The remains were collected by the museum during archaeological survey and testing on the Bend Ranger District. Human remains representing one individual have been identified. The 26 associated funerary objects include 22 pieces of flaked stone and four pieces of groundstone. Based on the geographic location, the cultural affiliation is likely the Burns Paiute Tribe, the Klamath Tribes, or the Confederated Tribes of Warm Springs. There is no record of hazardous substances being used on or associated with these remains.

Accession records from the University of Oregon, Museum of Natural and Cultural History indicate human remains were collected from the Crescent Ranger District, Deschutes National Forest in 1971. Human remains representing two individuals have been identified. No associated funerary objects are present. Based on the geographic location, the cultural affiliation is likely the Burns Paiute Tribe, the Klamath Tribes, or the Confederated Tribes of Warm Springs. There is no record of hazardous substances being used on or associated with these remains.

Cultural Affiliation

Based on the information available and the results of consultation, cultural affiliation is reasonably identified by the geographical location.

Determinations

The Deschutes National Forest has determined that:

• The human remains described in this notice represent the physical remains of four individuals of Native American ancestry.

• There 26 objects described in this notice are reasonably believed to have been placed intentionally with or near individual human remains at the time of death or later as part of the death rite or ceremony.

• There is a connection between the human remains described in this notice and the Burns Paiute Tribe; Confederated Tribes of the Warm Springs Reservation of Oregon; and the Klamath Tribes.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after April 18, 2025. If competing requests for repatriation are received, the Deschutes National Forest must determine the most appropriate requestor prior to repatriation. Requests for joint repatriation of the human remains and associated funerary objects are considered a single request and not competing requests. The Deschutes National Forest is responsible for sending a copy of this notice to the Indian Tribes and Native Hawaiian organizations identified in this notice.

Authority: Native American Graves Protection and Repatriation Act, 25 U.S.C. 3003, and the implementing regulations, 43 CFR 10.10.

Dated: February 11, 2025.
Melanie O'Brien,
Manager, National NAGPRA Program.

[FR Doc. 2025-04466 Filed 3-18-25; 8:45 am]

BILLING CODE 4312-52-P